DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: November 19, 2008, 8:30 a.m.-5 p.m. November 20, 2008, 8:30 a.m.-2:30 p.m.

Place: The Legacy Hotel and Meeting Centre, 1775 Rockville Pike, Rockville, Maryland 20852, Telephone: 301-881-2300.

Status: The meeting will be open to the public.

Agenda: On the morning of November 19, following the welcoming remarks from the COGME Chair and the Executive Secretary of COGME, there will be a panel discussion of the International Physician Workforce Conference held in Scotland, followed by (1) a presentation on the GAO Study Initiative on trends in Medical Residencies and Specialty choice and (2) a Study Initiative on Primary Care Projections. In the afternoon there will be an update of Modeling and Analysis for Determining Supply of and Demand for Residency Positions by Specialty. There will be breakouts of Council members into two task groups.

On November 20, there will be reports of the two task groups and further discussion on Variables and Scenarios for modeling the impact on physician specialty distribution.

Agenda items are subject to change as priorities dictate.

For Further Information Contact: Jerald M. Katzoff, Executive Secretary, COGME, Division of Medicine and Dentistry, Bureau of Health Professions, Parklawn Building, Room 9A-27, 5600 Fishers Lane, Rockville, Maryland 20857, Telephone (301) 443-4443.

Dated: October 23, 2008.
Alexandra Huttinger,
Director, Division of Policy Review and Coordination.

[FR Doc. E8-25775 Filed 10-28-08; 8:45 am]

BILLING CODE 4165-15-P